NATIONAL AERONAUTICS AND SPACE ADMINISTRATION

[Notice 00-121]

NASA Advisory Council (NAC), Technology and Commercialization Advisory Committee (TCAC); Meeting

AGENCY: National Aeronautics and Space Administration.

ACTION: Notice of meeting.

SUMMARY: In accordance with the Federal Advisory Committee Act, Pub. L. 92-463, as amended, the National Aeronautics and Space Administration announces a meeting of the NASA Advisory Council, Technology and Commercialization Advisory Committee.

DATES: Wednesday, November 15, 2000, 8:30 a.m. to 5 p.m. and Thursday, November 16, 2000, 8 a.m. to 12 Noon.

ADDRESSES: John H. Glenn Research Center, Building 3, Room 225, 2100 Brookpark Road, Cleveland, OH 44135.

FOR FURTHER INFORMATION CONTACT: Mr. Gregory M. Reck, Code R, National Aeronautics and Space Administration, Washington, DC 20546 (202/358-4700).

SUPPLEMENTARY INFORMATION: The meeting will be open to the public up to the seating capacity of the room. The agenda for the meeting is as follows:

—Proposed TCAC/Aero-Space Technology Advisory Committee (ASTAC) Changes

—Overview of GRC Activities

—GRC Technology Programs

—Technology Implementation at GRC

It is imperative that the meeting be held on these dates to accommodate the scheduling priorities of the key participants. Visitors will be requested to sign a visitor's register.

Dated: October 2, 2000.
Beth M. McCormick,
Advisory Committee Management Officer, National Aeronautics and Space Administration.

[FR Doc. 00-25815 Filed 10-6-00; 8:45 am]

BILLING CODE 7510-01-U